DEPARTMENT OF COMMERCE

International Trade Administration

[A-583-849]

Steel Wire Garment Hangers From Taiwan: Rescission of Antidumping Duty Administrative Review; 2017-2018

AGENCY: Enforcement and Compliance, International Trade Administration, Department of Commerce.

DATES: Applicable June 4, 2019.

SUMMARY: The Department of Commerce (Commerce) is rescinding the administrative review of the antidumping duty order on steel wire garment hangers from Taiwan for the period of review (POR), December 1, 2017, through November 30, 2018.

FOR FURTHER INFORMATION CONTACT: Annathea Cook, AD/CVD Operations, Office V, Enforcement and Compliance, International Trade Administration, U.S. Department of Commerce, 1401 Constitution Avenue NW, Washington, DC 20230; telephone (202) 482-0250.

SUPPLEMENTARY INFORMATION:

Background

On December 3, 2018, Commerce published in the Federal Register a notice of opportunity to request an administrative review of the antidumping duty order on steel wire garment hangers from Taiwan for the period of December 1, 2017, through November 30, 2018.¹ On December 14, 2018, in accordance with section 751(a) of the Tariff Act of 1930, as amended, (the Act) and 19 CFR 351.213(b), Commerce received a timely request from the petitioner ² to conduct an administrative review of the antidumping duty order on steel wire garment hangers from Taiwan manufactured and/or exported by Charles Enterprise Co., Ltd.; Gee Ten Enterprise Co., Ltd.; Inmall Enterprises Co., Ltd.; Mindful Life and Coaching Co., Ltd.; Ocean Concept Corporation; Su-Chia International Ltd.; Taiwan Hanger Manufacturing Co., Ltd.; and Young Max Enterprises Co. Ltd.³

¹ See Antidumping or Countervailing Duty Order, Finding, or Suspended Investigation; Opportunity to Request Administrative Review, 83 FR 62293 (December 3, 2018).

² M&B Metal Products Company, Inc.

³ See the petitioner's letter, “Steel Wire Garment Hangers from Taiwan: Request for Sixth Administrative Review,” (December 14, 2018).

On March 14, 2019, Commerce published in the Federal Register a notice of initiation of an administrative review of the antidumping duty order for the period December 1, 2017, through November 30, 2018.⁴ On May 13, 2019, the petitioners timely withdrew their request for an administrative review for all companies under review.⁵

⁴ See Initiation of Antidumping and Countervailing Duty Administrative Reviews, 84 FR 9297 (March 14, 2019).

⁵ See the petitioner's letter, “Sixth Administrative Review of Steel Wire Garment Hangers from Taiwan—Petitioner's Withdrawal of Review Request,” (May 13, 2019).

Rescission of Review

Pursuant to 19 CFR 351.213(d)(1), Commerce will rescind an administrative review, “in whole or in part, if the party that requested a review withdraws the request within 90 days of the date of publication of notice of initiation of the requested review.” The petitioner withdrew its request for review within the 90-day deadline. No other party requested an administrative review of the antidumping duty order. Therefore, in response to the timely withdrawal request and in accordance with 19 CFR 351.213(d)(1), Commerce is rescinding the administrative review of the antidumping duty order on steel wire garment hangers from Taiwan in its entirety.

Assessment

Commerce intends to instruct U.S. Customs and Border Protection (CBP) to assess antidumping duties on all appropriate entries of steel wire garment hangers from Taiwan during the POR. Antidumping duties shall be assessed at rates equal to the cash deposit rate of estimated antidumping duties required at the time of entry, or withdrawal from warehouse, for consumption, in accordance with 19 CFR 351.212(c)(1)(i). Commerce intends to issue appropriate assessment instructions to CBP 15 days after the publication of this notice in the Federal Register.

Notification to Importers

This notice serves as the only reminder to importers, whose entries will be liquidated as a result of this rescission, of their responsibility under 19 CFR 351.402(f)(2) to file a certificate regarding the reimbursement of antidumping duties prior to liquidation of the relevant entries during this review period. Failure to comply with this requirement may result in the presumption that reimbursement of antidumping duties occurred and the subsequent assessment of doubled antidumping duties.

Notification Regarding Administrative Protective Order

This notice serves as the only reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is published in accordance with sections 751(a) and 777(i)(1) of the Act and 19 CFR 351.213(d)(4).

Dated: May 28, 2019.
Gary Taverman,
Deputy Assistant Secretary for Antidumping and Countervailing Duty Operations.

[FR Doc. 2019-11576 Filed 6-3-19; 8:45 am]

BILLING CODE 3510-DS-P